GENERAL SERVICES ADMINISTRATION

[OMB Control No. 3090-00XX; Docket No. 2014-0001; Sequence No. 7]

Submission for OMB Review; MyUSA

AGENCY: Office of Citizen Services and Innovative Technologies (OCSIT), General Services Administration (GSA).

ACTION: Notice of request for comments regarding a request for a new information collection.

SUMMARY: Under the provisions of the Paperwork Reduction Act (44 U.S.C. chapter 35), the Regulatory Secretariat Division will be submitting to the Office of Management and Budget (OMB) a request for a new information collection concerning MyUSA.

DATES: Submit comments on or before September 18, 2014.

ADDRESSES: Submit comments identified by Information Collection 3090-00XX; MyUSA by any of the following methods:

• Regulations.gov: http://www.regulations.gov. Submit comments via the Federal eRulemaking portal by searching the OMB control number 3090-00XX. Select the link “Comment Now” that corresponds with “Information Collection 3090-00XX; MyUSA”. Follow the instructions provided at the “Submit a Comment” screen. Please include your name, company name (if any), and “Information Collection 3090-00XX; MyUSA” on your attached document.

• Mail: General Services Administration, Regulatory Secretariat Division (MVCB), 1800 F Street NW., 2nd Floor, Washington, DC 20405-0001. ATTN: IC 3090-00XX; MyUSA.

Instructions: Please submit comments only and cite Information Collection 3090-00XX; MyUSA, in all correspondence related to this collection. All comments received will be posted without change to http://www.regulations.gov, including any personal and/or business confidential information provided.

FOR FURTHER INFORMATION CONTACT: Joseph Polastre, Innovation Specialist, 1800 F Street NW., Washington, DC 20405-0001, telephone 202-317-0077 For information pertaining to status or publication schedules, contact the Regulatory Secretariat Division at 202-501-4755.

SUPPLEMENTARY INFORMATION:

A. Purpose

MyUSA (https://my.usa.gov) provides an account to users that gives them control over their interactions with government agencies and how government uses and accesses their personal information. Users have the option of creating a personal profile that can be reused across government to personalize interactions and streamline common tasks such as filling out forms. Government agencies can build applications that can request permission from the user to access their MyUSA Account and read their personal profile.

The information in the system is contributed voluntarily by the user and cannot be accessed by the government without explicit consent of the user; information is not shared between government agencies, except when the user gives explicit consent to share his or her information, and as detailed in the MyUSA System of Records Notice (SORN) (http://www.gpo.gov/fdsys/pkg/FR-2013-07-05/pdf/2013-16124.pdf).

The information collected is basic profile information, and may include: name, email address, home address, phone number, date of birth, gender, marital status and basic demographic information such as whether the individual is married, a veteran, a small business owner, a parent or a student.

Use of the system, and contribution of personal information, is completely voluntary. A notice was published November 29, 2013. No comments were received.

B. Public Comments

Public comments are particularly invited on: Whether this collection of information is necessary for the proper performance of functions of the Reporting and Use of Information Concerning Integrity and Performance of Recipients of Grants and Cooperative Agreements, whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

C. Annual Reporting Burden

Respondents: 10,000.

Responses per Respondent: 1.

Total annual responses: 10,000.

Hours per Response: .05.

Total Burden Hours: 500.

Obtaining Copies of Proposals: Requesters may obtain a copy of the information collection documents from the General Services Administration, Regulatory Secretariat Division (MVCB), 1800 F Street NW., 2nd Floor, Washington, DC 20405-0001, telephone 202-501-4755. Please cite OMB Control No. 3090-00XX, MyUSA, in all correspondence.

Dated: August 13, 2014.
Sonny Hashmi,
Chief Information Officer, Office of the Chief Information Officer.

[FR Doc. 2014-19604 Filed 8-18-14; 8:45 am]

BILLING CODE 6820-34-P